NUCLEAR REGULATORY COMMISSION

Regulatory Guide; Issuance, Availability

The Nuclear Regulatory Commission (NRC) has issued a revision of a guide in its Regulatory Guide Series and its conforming Standard Review Plan Chapter. This series has been developed to describe and make available to the public such information as methods acceptable to the NRC staff for implementing specific parts of the NRC's regulations, techniques used by the staff in its review of applications for permits and licenses, and data needed by the NRC staff in its review of applications for permits and licenses.

Revision 1 of Regulatory Guide 1.178, “An Approach for Plant-Specific Risk-Informed Decisionmaking for Inservice Inspection of Piping,” provides an approach for plant-specific risk-informed decisionmaking for inservice inspection of piping.

Standard Review Plan Chapter 3.9.8, “Standard Review Plan for the Review of Risk-Informed Inservice Inspection of Piping,” is a chapter in NUREG-0800, “Standard Review Plan for the Review of Safety Analysis Reports for Nuclear Power Plants.” Chapter 3.9.8 describes review procedures and acceptance guidelines for NRC staff reviews of proposed plant-specific, risk-informed changes to a licensee's inservice inspection program for piping.

Comments and suggestions in connection with items for inclusion in guides currently being developed or improvements in all published guides are encouraged at any time. Written comments may be submitted to the Rules and Directives Branch, Division of Administrative Services, Office of Administration, U.S. Nuclear Regulatory Commission, Washington DC 20555. Questions on the content of this guide may be directed to Mr. W.B. Hardin, (301) 415-6561; e-mail wbh@nrc.gov.

Many regulatory guides are available for inspection or downloading at the NRC's Web site at http://www.nrc.gov under Regulatory Guides and in NRC's Electronic Reading Room (ADAMS System) at the same site. Single copies of regulatory guides may be obtained free of charge by writing the Reproduction and Distribution Services Section, U.S. Nuclear Regulatory Commission, Washington, DC 20555-0001, or by fax to (301) 415-2289, or by e-mail to <distribution@nrc.gov>. Issued guides may also be purchased from the National Technical Information Service (NTIS) on a standing order basis. Details on this service may be obtained by writing NTIS at 5285 Port Royal Road, Springfield, VA 22161;telephone 1-800-553-6847; <http://www.ntis.gov>. Regulatory guides are not copyrighted, and Commission approval is not required to reproduce them. (5 U.S.C. 552(a))

Dated at Rockville, MD this 29th day of August 2003.
For The Nuclear Regulatory Commission.
Ashok C. Thadani,
Director, Office of Nuclear Regulatory Research.

[FR Doc. 03-23555 Filed 9-15-03; 8:45 am]

BILLING CODE 7590-01-P